DEPARTMENT OF TRANSPORTATION

Federal Aviation Administration

14 CFR Part 39

[Docket No. 2000-CE-33-AD]

RIN 2120-AA64

Airworthiness Directives; Rolladen Schneider Flugzeugbau GmbH Models LS 3, LS 4, and LS 6c Sailplanes

AGENCY: Federal Aviation Administration, DOT.

ACTION: Notice of proposed rulemaking (NPRM).

SUMMARY: This document proposes to adopt a new airworthiness directive (AD) that would apply to certain Rolladen Schneider Flugzeugbau GmbH (Rolladen Schneider) Models LS 3, LS 4, and LS 6c sailplanes. The proposed AD would require you to inspect the airbrake levers in the wing for lower end corrosion and for play in flight direction when fully extended and retracting under load; replace the bearings if there is jamming under load or if corrosion is found; and adjust the lower lever member (only for the Model LS 3). The proposed AD is the result of mandatory continuing airworthiness information (MCAI) issued by the airworthiness authority for Germany. The actions specified by this proposed AD are intended to detect and correct corrosion damage to the airbrake levers and bearings caused by collection of water in the air brake boxes, not detected during postflight checks. This condition could result in the airbrakes locking in the extended position and a consequent off-field or short landing.

DATES: The Federal Aviation Administration (FAA) must receive any comments on this proposed rule by April 2, 2001.

ADDRESSES: Send three copies of comments to FAA, Central Region, Office of the Regional Counsel, Attention: Rules Docket No. 2000-CE-33-AD, 901 Locust, Room 506, Kansas City, Missouri 64106. You may read comments at this location between 8 a.m. and 4 p.m., Monday through Friday, except holidays.

You may get service information that applies to the proposed AD from Rolladen-Schneider Flugzeugbau GmbH, Muhlstrasse 10, D-63329 Egelsbach, Germany; phone: ++ 49 6103 204126; facsimile: ++ 49 6103 45526. You may look at this information at the Rules Docket at the address above.

FOR FURTHER INFORMATION CONTACT: Mike Kiesov, Aerospace Engineer, FAA, Small Airplane Directorate, 901 Locust, Room 301, Kansas City, Missouri 64106; telephone: (816) 329-4144; facsimile: (816) 329-4090.

SUPPLEMENTARY INFORMATION:

Comments Invited

How do I comment on the proposed AD? We invite your comments on the proposed rule. You may send whatever written data, views, or arguments you choose. You need to include the rule's docket number and send your comments in triplicate to the address specified under the caption ADDRESSES. We will consider all comments received by the closing date specified above, before acting on the proposed rule. We may change the proposals contained in this notice in light of the comments received.

Are there any specific portions of the proposed AD I should pay attention to? The FAA specifically invites comments on the overall regulatory, economic, environmental, and energy aspects of the proposed rule that might require a change to the proposed rule. You may look at all comments we receive. We will file a report in the Rules Docket that summarizes each FAA contact with the public that concerns the substantive parts of this proposal.

We are re-examining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-33-AD.” We will date stamp and mail the postcard back to you.

Discussion

What events have caused this proposed AD? The LBA, which is the airworthiness authority for Germany, recently notified FAA that an unsafe condition may exist on certain Rolladen Schneider Models LS 3, LS 4, and LS 6c sailplanes. The LBA reports one occurrence of corroded bearings on the lower ends of air brake levers found on the above-referenced sailplanes. The damage was possibly the result of improper postflight checks. It has been reported that in some cases, the corrosion, occurring over a long time, could cause bearing failure and consequent locking of air brakes in the extended position.

What are the consequences if the condition is not corrected? If the airbrakes lock in the extended position, inadvertent off-field or short landing conditions might occur.

Is there service information that applies to this subject? Rolladen Schneider has issued these technical bulletins dated September 14, 1999:

—No. 3051;

—No. 4043; and

—No. 6037.

What are the provisions of these service bulletins? These service bulletins specifies procedures for:

—Inspecting air brake levers in the wing for lower end corrosion and for play in flight direction when fully extended; inspect for retraction under load; replacing the bearings if there is jamming under load or if corrosion is found; and

—Adjusting the lower lever member (only for the Model LS 3).

What action did the LBA take? The LBA classified these service bulletins as mandatory and issued these German AD's, dated March 9, 2000, to ensure the continued airworthiness of these sailplanes in Germany:

—2000-076;

—2000-082; and

—2000-085.

Was this in accordance with the bilateral airworthiness agreement? These sailplane models are manufactured in Germany and are type certificated for operation in the United States under the provisions of § 21.29 of the Federal Aviation Regulations (14 CFR 21.29) and the applicable bilateral airworthiness agreement.

Complying with this bilateral airworthiness agreement, the LBA has kept FAA informed of the situation described above.

The FAA's Determination and an Explanation of the Provisions of the Proposed AD

What has FAA decided? The FAA has examined the findings of the LBA; reviewed all available information, including the service information referenced above; and determined that:

—The unsafe condition referenced in this document exists or could develop on other Rolladen Schneider Models LS 3, LS 4, and LS 6c sailplanes of the same type design;

—The actions specified in the previously-referenced service information should be done on the affected sailplanes; and

—AD action should be taken in order to correct this unsafe condition.

What would the proposed AD require? This proposed AD would require you to do the actions specified in the previously referenced service information.

Cost Impact

How many sailplanes would the proposed AD impact? We estimate that the proposed AD would affect 175 sailplanes in the U.S. registry.

What would be the cost impact of the proposed AD on owners/operators of the affected sailplanes? We estimate the following costs to do the proposed inspection:

Labor cost | Parts cost | Total cost per sailplane | Total cost on U.S. sailplane operators
2 workhours × $60 per hour = $120 | Not applicable | $120 | $21,000

We estimate the following costs to do any necessary bearing replacement that would be required because of the results of the proposed inspection. We have no way of determining the number of sailplanes that may need bearings replaced:

Labor cost | Parts cost | Total cost per sailplane
30 workhours × $60 per hour = $1,800. | $35 for bearings + $550 for levers = $585. | $2,385

Compliance Time of the Proposed AD

What would be the compliance time of the proposed AD? The compliance time of this proposed AD is within the next 30 calendar days after the effective date of this AD.

Why is the compliance time presented in calendar time instead of hours time-in-service (TIS)? Because of the typical use of sailplanes, calendar days compliance time was deemed more suitable than time in service. For example, one sailplane operator may use the sailplane 50 hours in 1 month while another may only accumulate 50 hours in 1 year.

Why is the compliance time of the proposed AD different from the German AD and the service information? The service information specifies the actions required in this proposed AD “before next flight” and the German AD mandates these actions “before next take-off, when play at levers is existent” for sailplanes registered for operation in Germany. The FAA does not have justification for requiring the action before further flight. Compliance times such as these are used for urgent safety of flight conditions. Instead, FAA has determined that 30 calendar days is a reasonable time period for doing the inspection in this proposed AD.

Regulatory Impact

Would this proposed AD impact various entities? The regulations proposed would not have a substantial direct effect on the States, on the relationship between the national government and the States, or on the distribution of power and responsibilities among the various levels of government. Therefore, it is determined that this proposed rule would not have federalism implications under Executive Order 13132.

Would this proposed AD involve a significant rule or regulatory action? For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Rolladen Schneider Flugzeugbau GMBH: Docket No. 2000-CE-33-AD

(a) What sailplanes are affected by this AD? This AD affects Models LS 3, LS 4, and LS 6c sailplanes, all serial numbers, certificated in any category.

(b) Who must comply with this AD? Anyone who wishes to operate any of the above sailplanes must comply with this AD.

(c) What problem does this AD address? The actions specified by this AD are intended to detect and correct corrosion damage to the airbrake levers and bearings caused by collection of water in the air brake boxes not detected during postflight checks. This condition could result in the airbrakes locking in the extended position and a consequent off-field or short landing.

(d) What actions must I accomplish to address this problem? To address this problem, unless already done, you must do the following:

Actions | Compliance | Procedures
(1) Inspect the airbrake levers in the wing for lower end corrosion and for play in flight direction when fully extended, and retracting under load | Within the next 30 calendar days after the effective date of this AD, and thereafter at every three calendar years | Do these actions following the applicable Rolladen Schneider Technical Bulletin: Model LS 3: No. 3051, dated September 14, 1999; Model LS 4: No. 4043, dated September 14, 1999; or Model LS 6c: No. 6037, dated September 14, 1999.
(2) Replace the bearings if there is jamming under the load | Before further flight after the inspection required by this AD | Do this action following the applicable Rolladen Schneider Technical Bulletin: Model LS 3: No. 3051, dated September 14, 1999; Model LS 4: No. 4043, dated September 14, 1999; or Model LS 6c: No. 6037, dated September 14, 1999.
(3) If corrosion of the bearings is found, but no jamming, replace the bearings | Within 6 calendar months after the inspection required by this AD | Do this action following the applicable Rolladen Schneider Technical Bulletin: Model LS 3: No. 3051, dated September 14, 1999; Model LS 4: No. 4043, dated September 14, 1999; or Model LS 6c: No. 6037, dated September 14, 1999.
(4) For only the Model LS 3, adjust the lower lever member | Within the next 30 calendar days after the effective date of this AD | Do this action following the procedures contained in Rolladen Schneider Technical Bulletin No. 3051, dated September 14, 1999.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 1: This AD applies to each sailplane identified in paragraph (a) of this AD, regardless of whether it has been modified, altered, or repaired in the area subject to the requirements of this AD. For sailplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specify actions you propose to address it.

(f) Where can I get information about any already-approved alternative methods of compliance? Contact Mike Kiesov, Aerospace Engineer, Small Airplane Directorate, 901 Locust, Room 301, Kansas City, Missouri 64106; telephone: (816) 329-4121; facsimile: (816) 329-4091.

(g) What if I need to fly the sailplane to another location to comply with this AD? The FAA can issue a special flight permit under sections 21.197 and 21.199 of the Federal Aviation Regulations (14 CFR 21.197 and 21.199) to operate your sailplane to a location where you can accomplish the requirements of this AD.

(h) How do I get copies of the documents referenced in this AD? You may get copies of the documents referenced in this AD from Rolladen-Schneider Flugzeugbau GmbH, Muhlstrasse 10, D-63329 Egelsbach, Germany. You may read these documents at FAA, Central Region, Office of the Regional Counsel, 901 Locust, Room 506, Kansas City, Missouri 64106.

Note 2: The subject of this AD is addressed in these German AD's dated March 9, 2000:

—2000-076;

—2000-082; and

—2000-085.

Issued in Kansas City, Missouri, on January 22, 2001.
David R. Showers,
Acting Manager, Small Airplane Directorate, Aircraft Certification Service.

[FR Doc. 01-3678 Filed 2-13-01; 8:45 am]

BILLING CODE 4910-13-P